DEPARTMENT OF THE INTERIOR

Fish and Wildlife Service

50 CFR Part 36

[Docket No. FWS-R7-NWRS-2014-0003: FF07R05000 145 FXRS12610700000]

RIN 1018-AX56

Refuge-Specific Regulations; Public Use; Kenai National Wildlife Refuge

AGENCY: Fish and Wildlife Service, Interior.

ACTION: Proposed rule.

SUMMARY: We, the U.S. Fish and Wildlife Service (Service), propose to amend our public use regulations for Kenai National Wildlife Refuge (Kenai NWR or Refuge) to clarify the existing regulations; implement management decisions from our June 2010 Kenai NWR revised comprehensive conservation plan (CCP); establish regulations for managing wildlife attractants, including food, refuse, and retained fish; and revise the regulations for hunting and trapping. The proposed regulations are aimed at enhancing natural resource protection, public use activities, and public safety on the Refuge; are necessary to ensure the compatibility of public use activities with the Refuge's purposes and the Refuge System's purposes; and would ensure consistency with management policies and approved Refuge management plans.

DATES: To ensure that we are able to consider your comments on this proposed rule, we must receive them on or before July 20, 2015. We must receive requests for public hearings, in writing, at the address shown in the FOR FURTHER INFORMATION CONTACT section by July 6, 2015.

ADDRESSES: You may submit comments on this proposed rule by one of the following methods:

(1) Electronically: Go to the Federal eRulemaking Portal: http://www.regulations.gov. Search for FWS-R7-NWRS-2014-0003, which is the docket number for this rulemaking. You may submit a comment by clicking on “Comment Now!” Please ensure that you have found the correct rulemaking before submitting your comment.

(2) By hard copy: Submit by U.S. mail or hand-delivery to: Public Comments Processing, Attn: FWS-R7-NWRS-2014-0003, U.S. Fish and Wildlife Service, MS: BPHC, 5275 Leesburg Pike, Falls Church, VA 22041-3803.

We will post all comments on http://www.regulations.gov. This generally means that we will post any personal information you provide us. For additional information, see the Request for Comments and Public Availability of Comments sections, below.

FOR FURTHER INFORMATION CONTACT: Stephanie Brady, National Wildlife Refuge System, Alaska Regional Office, 1011 E. Tudor Rd., Mail Stop 211, Anchorage, AK 99503; telephone (907) 306-7448; fax (907) 786-3901.

SUPPLEMENTARY INFORMATION:

Background

Franklin D. Roosevelt established the Kenai National Moose Range (Moose Range) on December 16, 1941, for the purpose of “protecting the natural breeding and feeding range of the giant Kenai moose on the Kenai Peninsula, Alaska, which in this area presents a unique wildlife feature and an unusual opportunity for the study in its natural environment of the practical management of a big game species that has considerable local economic value” (Executive Order 8979; see 6 FR 6471, December 18, 1941).

Section 303(4) of the Alaska National Interest Lands Conservation Act of 1980 (ANILCA) (16 U.S.C. 3101 et seq.) substantially affected the Moose Range by modifying its boundaries and broadening its purposes from moose conservation to protection and conservation of a broad array of fish, wildlife, habitats, and other resources, and to providing educational and recreational opportunities. ANILCA also redesignated the Moose Range as the Kenai National Wildlife Refuge (NWR or Refuge) and increased the size of the Refuge to 1.92 million acres, of which approximately two-thirds are designated as wilderness.

ANILCA sets out purposes for each refuge in Alaska; the purposes of Kenai NWR are set forth in section 303(4) (B) of ANILCA. The purposes identify some of the reasons why Congress established the Refuge and set the management priorities for the Refuge. The purposes are as follows:

(1) To conserve fish and wildlife populations and habitats in their natural diversity including, but not limited to, moose, bears, mountain goats, Dall sheep, wolves and other furbearers, salmonoids and other fish, waterfowl and other migratory and nonmigratory birds;

(2) To fulfill the international treaty obligations of the United States with respect to fish and wildlife and their habitats;

(3) To ensure, to the maximum extent practicable and in a manner consistent with the purposes set forth in (1), above, water quality and necessary water quantity within the Refuge;

(4) To provide, in a manner consistent with (1) and (2), above, opportunities for scientific research, interpretation, environmental education, and land management training; and

(5) To provide, in a manner compatible with these purposes, opportunities for fish and wildlife-oriented recreation.

The Wilderness Act of 1964 (16 U.S.C. 1131-1136) provides the following purposes for wilderness areas, including the Kenai wilderness area:

(1) To secure an enduring resource of wilderness;

(2) To protect and preserve the wilderness character of areas within the National Wilderness Preservation System; and

(3) To administer the areas for the use and enjoyment of the American people in a way that will leave them unimpaired for future use and enjoyment as wilderness.

The Refuge is considered by many to be “Alaska in miniature.” It includes portions of the Harding Ice Field at its highest elevations, the western slopes of the Kenai Mountains, and forested lowlands bordering Cook Inlet. Treeless alpine and subalpine habitats are home to mountain goats, Dall sheep, caribou, wolverine, marmots, and ptarmigan. Most of the lower elevations on the Refuge are covered by boreal forests composed of spruce and birch forests intermingled with hundreds of lakes. Boreal forests are home to moose; wolves; black and brown bears; lynx; snowshoe hares; and numerous species of neotropical songbirds, such as olive-sided flycatchers, myrtle warblers, and ruby-crowned kinglets. At sea level, the Refuge encompasses the largest estuary on the Peninsula—the Chickaloon River Flats. The Chickaloon River Flats provide a major migratory staging area for thousands of shorebirds and waterfowl and provide a haul-out area for harbor seals and feeding areas for beluga whales.

Under our regulations implementing ANILCA in Title 50 of the Code of Federal Regulations at part 36 (50 CFR 36), all refuge lands in Alaska are open to public recreational activities as long as such activities are conducted in a manner compatible with the purposes for which the refuge was established (50 CFR 36.31). Such recreational activities include, but are not limited to, sightseeing, nature observation and photography, hunting, fishing, boating, camping, hiking, picnicking, and other related activities (50 CFR 36.31(a)).

The National Wildlife Refuge Administration Act of 1966 (16 U.S.C. 668dd-668ee), as amended by the National Wildlife Refuge System Improvement Act of 1997, defines “wildlife-dependent recreation” and “wildlife-dependent recreational use” as “hunting, fishing, wildlife observation and photography, or environmental education and interpretation” (16 U.S.C. 668ee (2)). We encourage these uses, and they receive emphasis in management of the public use of Kenai NWR.

The current refuge-specific regulations for Kenai NWR are set forth at 50 CFR 36.39(i). These regulations include provisions concerning the operation of aircraft, motorboats, off-road vehicles, and snowmobiles; hunting and trapping; camping; timber removal; personal property; use of nonmotorized wheeled vehicles; canoeing; and area closures on the Refuge.

Proposed Changes

In this document, we propose to make the following changes to the refuge-specific regulations for Kenai NWR:

(1) Amend regulations affecting the use of aircraft, motorboats, motorized vehicles, and snowmobiles;

(2) Codify restrictions on hunting and trapping within the Skilak Wildlife Recreation Area recently established in accordance with the procedures set forth at 50 CFR 36.42 (public participation and closure procedures);

(3) Expand a prohibition on the discharge of firearms to include areas of intensive public use along the Kenai and Russian rivers;

(4) Clarify the intent of an existing regulation addressing hunting over bait;

(5) Amend regulations associated with camping, use of public use cabins and public fishing facilities, unattended equipment, livestock including pack animals, and public gatherings;

(6) Establish regulations to reduce potential for negative human-bear interactions;

(7) Establish regulations for noncommercial gathering of natural resources, including collection of edible wild foods and shed antlers; and

(8) Codify restrictions on certain uses within areas of the Refuge under conservation easements and easements made under section 17(b) of the Alaska Native Claims Settlement Act (ANCSA) (43 U.S.C. 1601 et seq.; see 43 U.S.C. 1616(b)).

We also propose to clarify the existing regulations through editing for plain language and through correcting misspellings. Our proposed substantive changes are discussed in more detail below.

Implementation of Revised Kenai Comprehensive Conservation Plan

The revised Kenai NWR comprehensive conservation plan (2010) (CCP) addresses five primary issues:

• Management of large-scale habitat changes and the use of fire;

• Management of Refuge facilities for public use while ensuring natural and cultural resource protection;

• Enhancement of wildlife-oriented recreation opportunities;

• Management of the increasing public use to ensure protection of resources, visitor experience, and public safety; and

• Balancing motorized access with protection of resources and visitor experiences.

This proposed rule would implement management direction and/or specific actions identified in the CCP and its record of decision that are intended to address the latter four issues. Specifically, we propose to:

(1) Allow expanded airplane operation on the Chickaloon River Flats, open an additional lake to airplane operation within the Kenai wilderness for permitted hunting access, change the dates of prohibited aircraft operation on any lake where nesting trumpeter swans or their broods or both are present from May 1 to September 30 to May 1 to September 10, and prohibit airdrop of any items except under the terms and conditions of a special use permit (FWS Form 3-1383-G).

(2) Prohibit boat motors in excess of 10 horsepower in selected lakes and adopt motor horsepower and boat size and capacity restrictions for portions of the Kenai River within the Refuge. The proposed motor horsepower, motor type and boat size restrictions would enhance consistency with existing State boating regulations within the Kenai River Special Management Area (11 Alaska Administrative Code [AAC] 20.860 and 11 AAC 20.861).

(3) Clarify that jet skis and personal watercraft are included in the list of prohibited motorized watercraft.

(4) Prohibit the use of snowmobiles to pursue, chase, or herd wildlife.

(5) Establish requirements for use of public fishing facilities to ensure protection of sensitive Kenai River shoreline habitats, and enhance safety for both ferry passengers and visitors fishing in the immediate vicinity of Russian River ferry operations. Currently, fishing is prohibited in an area 100 feet downstream of the ferry's landing area on the southern shore; the proposed rule would expand the closure to include 100 feet upstream of the landing area.

(6) Clarify requirements for use of developed campgrounds and public use cabins including general occupancy, reservations and payment of fees, length of stay, management of wildlife attractants and human waste, control of pets, and campfire use; prohibit dispersed camping within 100 yards of the Kenai River in certain locations to enhance protection of sensitive riverbank habitats; and prohibit overnight camping at certain developed parking facilities to meet day-use parking needs.

(7) Specify requirements for use of nonmotorized wheeled vehicles on designated roads including a new allowance for use of wheeled game carts; for use of livestock for packing, including a new requirement for use of certified weed-free feed to reduce potential for introducing invasive plant species; for allowance of natural resource collection, including berries and edible plants and shed antlers for personal use; for extension of the allowable time for leaving personal property unattended for certain approved extended stay activities; and for public gatherings.

(8) Codify legal requirements governing use of areas where the Service administers non-development easements, public use easements, and easements made under section 17(b) of ANCSA.

The CCP and its record of decision are available for public inspection on the Federal eRulemaking Portal, http://www.regulations.gov, under Docket No. FWS-R7-NWRS-2014-0003.

Managing Wildlife Attractants To Reduce Negative Human-Bear Interactions

This proposed rule would establish regulations addressing food and retained fish storage and handling in an area surrounding the confluence of the Kenai and Russian rivers, which we refer to as the Russian River-Kenai River Special Management Area. The Russian River forms the boundary between the Refuge and the Chugach National Forest. Enhancing public safety and wildlife resource conservation in this area by reducing the potential for negative human-bear interactions has been the focus of formal interagency and stakeholder coordination efforts involving the Service; the U.S. Forest Service; Alaska Department of Fish and Game; Alaska Department of Natural Resources; Cook Inlet Region, Incorporated; and Kenaitze Indian Tribe. Proper food and retained fish storage and handling in this area, which hosts one of Alaska's most popular and accessible recreational fisheries, are necessary and important components of these efforts.

The proposed rule would codify and make permanent food and retained fish regulations that have been issued by the Service as temporary restrictions in recent years in accordance with 50 CFR 36.42, and would provide consistency with U.S. Forest Service's food and retained fish storage regulations applying to adjacent lands within the Chugach National Forest (36 CFR 261.58). This consistency among regulations would have the added benefit of reducing confusion for the public utilizing this area, as visitors regularly use both jurisdictions while recreating in the area.

Hunting and Trapping

By law (National Wildlife Refuge System Administration Act of 1966, as amended; Alaska National Interest Lands Conservation Act of 1980), regulation (43 CFR 24), and policy (the Service Manual at 605 FW 1 and 605 FW 2), the Service must, to the extent practicable, ensure that refuge regulations permitting hunting and fishing are consistent with State laws, regulations, and management plans. In addition, under the Master Memorandum of Understanding (1982) (MMOU) between the Service and the Alaska Department of Fish and Game, it is recognized that taking of fish and wildlife by hunting, trapping, or fishing on Service lands in Alaska is authorized under applicable State and Federal law unless State regulations are found to be incompatible with documented refuge goals, objectives, or management plans. The MMOU also commits the Service to utilize the State's regulatory process to the maximum extent allowed by Federal law in developing new or modifying existing Federal regulations or proposing changes in existing State regulations governing or affecting the taking of fish and wildlife on Service lands in Alaska.

In recognition of the above, nonconflicting State general hunting and trapping regulations are usually adopted on NWRs. Hunting and trapping, however, remain subject to legal mandates, regulations, and management policies pertinent to the administration and management of NWRs. For refuges in Alaska, a number of statutes provide authority and directives, and three statutes are key: The Alaska National Interest Lands Conservation Act (ANILCA) of 1980; the National Wildlife Refuge System Administration Act of 1966, as amended; and the Wilderness Act of 1964.

The prohibitions and/or restrictions on hunting and trapping proposed by the Service in this rule are necessary to ensure that hunting and trapping are regulated in a manner such that these activities remain compatible with Kenai NWR's established purposes and the Refuge System mission; to ensure consistency with Service policy, directives, and approved management plans; to minimize conflicts between authorized users of the Refuge; and to protect public safety. This proposed rule would establish prohibitions and/or restrictions on hunting and trapping within the Skilak Wildlife Recreation Area of the Refuge, establish a prohibition on the discharge of firearms within ¼ mile of the Kenai and Russian rivers (with the exception of firearms used for dispatching legally trapped animals and use of shotguns for waterfowl hunting), and clarify the intent of an existing regulation that allows the harvest of black bears over bait under the terms and conditions of a special use permit (FWS Form 3-1383-G).

This proposed rule would codify an existing regulatory closure of hunting and trapping, with exceptions for certain hunting activities, within the Skilak Wildlife Recreation Area, consistent with the Service's 2007 Skilak Wildlife Recreation Area Revised Final Management Plan (which reaffirmed management objectives for the area established under the Refuge's 1985 CCP) and which mimic State of Alaska hunting and trapping regulations for the area in effect prior to 2013. The Skilak Wildlife Recreation Area is a 44,000-acre area of the Refuge that has, since 1985, been managed with a primary emphasis on providing enhanced opportunities for wildlife viewing, environmental education, and interpretation. Under historic State regulations, the area was closed to hunting and trapping, with the exception of hunting of small game with bow and arrow and falconry, moose hunting by permit, and “youth-only” firearm hunting of small game. Hunting of all other species has been prohibited since 1987.

This proposed rule would codify the Service's November 2013 permanent closure, established in accordance with 50 CFR 36.42, to hunting and trapping, with the exceptions for moose and small game described above, in the Skilak Wildlife Recreation Area (see 78 FR 66061, November 4, 2013). The Service adopted the permanent closure in response to action taken by the Alaska Board of Game in March 2013, which opened the Skilak Wildlife Recreation Area to taking of lynx, coyote, and wolf within the area under State hunting regulations. Under this new State regulation, which became effective July 1, 2013, taking of these species is allowed during open seasons from November 10 to March 31. The Service determined that this hunting of lynx, coyote, and wolf negatively impacts meeting objectives in approved Refuge management plans to provide enhanced wildlife viewing, environmental education, and interpretation opportunities in the area. Meeting Refuge public use objectives in the Skilak Wildlife Recreation Area is consistent with and directly supports meeting specific Refuge purposes under ANILCA for providing the public with opportunities for environmental education and interpretation and for a variety of wildlife-dependent recreational activities, including wildlife viewing and photography. In addition to helping us meet the Refuge's public use objectives, this action helps us ensure public safety.

Also to help ensure protection of public safety, the proposed rule would expand areas closed to the discharge of firearms within the Refuge by prohibiting discharge of firearms along the Kenai and Russian rivers, with exceptions for use of firearms to dispatch animals while lawfully trapping in both areas and use of shotguns for waterfowl and small game hunting along the Kenai River. These river corridors receive intensive recreational use for sport fishing from shorelines and boats during open seasons for salmon and resident fish including rainbow trout and Dolly Varden, and, on the upper Kenai River for river floating, from late spring to freeze-up. The exceptions include an allowance for use of shotguns for waterfowl hunting, a popular traditional recreational activity occurring from September to mid-December along the Kenai River in areas downstream of Skilak Lake and near the outlet of the river into Skilak Lake. The proposed firearm discharge restriction would in effect require that archery equipment be used for taking of big game within the designated river corridors. This change would enhance consistency with State regulations which prohibit the discharge of firearms (with area-specific exceptions) within the Kenai River Special Management Area (11 AAC 20.850).

The proposed rule would clarify an existing regulation which allows hunting over bait for the harvest of black bears under the terms and conditions of a special use permit (FWS Form 3-1383-G). All other hunting over bait is in effect prohibited on the Refuge. This clarification is necessary in light of recent action by the Alaska Board of Game to allow for the take of brown bears at registered black bear baiting stations. It has, and continues to be, the intent of the Service to allow baiting only for the take of black bears under the existing regulations, and this restriction is currently addressed through a stipulation on the refuge special use permit. This change would provide additional notice and clarification for the public of this intent.

Maps depicting proposed changes to existing public uses and/or public use areas and referred to in the proposed rule are available for public inspection on the Federal eRulemaking Portal, http://www.regulations.gov, under Docket No. FWS-R7-NWRS-2014-0003.

Request for Comments

You may submit comments and materials on this proposed rule by any one of the methods listed in the ADDRESSES section. We will not accept comments sent by email or fax or to an address not listed in the ADDRESSES section.

If you submit a comment via http://www.regulations.gov, your entire comment—including any personal identifying information—will be posted on the Web site. If you submit a hardcopy comment that includes personal identifying information, you may request at the top of your document that we withhold this information from public review. However, we cannot guarantee that we will be able to do so. We will post all hardcopy comments on http://www.regulations.gov.

Comments and materials we receive, as well as supporting documentation we used in preparing this proposed rule, will be available for public inspection on http://www.regulations.gov, or by appointment, during normal business hours, at the U.S Fish and Wildlife Service, Alaska Regional Office, Division of Realty and Conservation Planning, 1011 East Tudor Road, Anchorage, AK 99503.

Public Availability of Comments

Before including your address, phone number, email address, or other personal identifying information in your comment, you should be aware that your entire comment—including your personal identifying information—may be made publicly available at any time. While you can ask us in your comment to withhold your personal identifying information from public review, we cannot guarantee that we will be able to do so.

Required Determinations

Regulatory Planning and Review (Executive Order 12866)

Executive Order 12866 provides that the Office of Information and Regulatory Affairs (OIRA) in the Office of Management and Budget will review all significant rules. OIRA has determined that this rule is not significant.

Executive Order 13563 reaffirms the principles of Executive Order 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. We have developed this rule in a manner consistent with these requirements.

Regulatory Flexibility Act

Under the Regulatory Flexibility Act (RFA; 5 U.S.C. 601 et seq., as amended by the Small Business Regulatory Enforcement Fairness Act (SBREFA) of 1996)), whenever an agency must publish a notice of rulemaking for any proposed or final rule, it must prepare and make available for public comment a regulatory flexibility analysis that describes the effects of the rule on small entities (small businesses, small organizations, and small government jurisdictions). However, no regulatory flexibility analysis is required if the head of the agency certifies the rule will not have a significant economic impact on a substantial number of small entities. SBREFA amended the RFA to require Federal agencies to provide a statement of the factual basis for certifying that the rule will not have a significant economic impact on a substantial number of small entities. Thus, for a regulatory flexibility analysis to be required, impacts must exceed a threshold for “significant impact” and a threshold for a “substantial number of small entities.” See 5 U.S.C. 605(b).

This proposed rule would impact visitor use for wildlife-dependent recreation on the Refuge. Modifying the visitor use regulations would have small incremental changes on total visitor use days associated with particular activities. For example, visitor use associated with aircraft motorboats and collection of natural resources may increase slightly. However, visitor use associated with camping may decline slightly. We estimate that the overall change in recreation use-days would represent less than 1 percent of the average recreation use-days on the Refuge (1 million visitors annually).

Small businesses within the retail trade industry (such as hotels, gas stations, etc.) (NAIC 44) and accommodation and food service establishments (NAIC 72), may be impacted by spending generated by Refuge visitation. Seventy-six percent of establishments in the Kenai Peninsula Borough qualify as small businesses. This statistic is similar for retail trade establishments (72 percent) and accommodation and food service establishments (65 percent). Due to the negligible change in average recreation days, this proposed rule would have a minimal effect on these small businesses.

With the negligible change in overall visitation anticipated from this proposed rule, it is unlikely that a substantial number of small entities would have more than a small economic effect. Therefore, we certify that, if adopted, this rule would not have a significant economic effect on a substantial number of small entities as defined under the Regulatory Flexibility Act. An initial regulatory flexibility analysis is not required. Accordingly, a Small Entity Compliance Guide is not required.

Small Business Regulatory Enforcement Fairness Act (SBREFA)

This proposed rule is not a major rule under 5 U.S.C. 804(2), the SBREFA. This rule:

a. Would not have an annual effect on the economy of $100 million or more.

b. Would not cause a major increase in costs or prices for consumers; individual industries; federal, State, or local government agencies; or geographic regions.

c. Would not have significant adverse effects on competition, employment, investment, productivity, innovation, or the ability of U.S. based enterprises to compete with foreign-based enterprises.

Unfunded Mandates Reform Act

This proposed rule would not impose an unfunded mandate on State, local, or tribal governments or the private sector of more than $100 million per year. The rule would not have a significant or unique effect on State, local, or tribal governments or on the private sector. A statement containing the information required by the Unfunded Mandates Reform Act (2 U.S.C. 1531 et seq.) is not required.

Takings (Executive Order 12630)

This proposed rule does not involve the taking of private property or otherwise have taking implications under Executive Order 12630. This proposed rule, if adopted, would affect the public use and management of Kenai NWR, which is managed by the Service in Alaska. A takings implication assessment is not required.

Federalism (Executive Order 13132)

In accordance with Executive Order 13132, this proposed rule does not have significant Federalism effects. A federalism summary impact statement is not required. This proposed rule, if adopted, would affect the public use and management of Kenai NWR, which is managed by the Service in Alaska, and would not have a substantial direct effect on State or local governments in Alaska.

Civil Justice Reform (Executive Order 12988)

This proposed rule complies with the requirements of Executive Order 12988. Specifically, this rule:

a. Meets the criteria of section 3(a) requiring that all regulations be reviewed to eliminate errors and ambiguity and be written to minimize litigation; and

b. Meets the criteria of section 3(b) (2) requiring that all regulations be written in clear language and contain clear legal standards.

Government-to-Government Relationship With Tribes

In accordance with the President's memorandum of April 29, 1994 (Government-to-Government Relations with Native American Tribal Governments; 59 FR 22951), Executive Order 13175 (Consultation and Coordination with Indian Tribal Governments), and the Department of the Interior's manual at 512 DM 2, we readily acknowledge our responsibility to communicate meaningfully with recognized Federal Tribes on a government-to-government basis, and we are seeking their input to evaluate this proposed rule. In addition, we have evaluated this proposed rule under Alaska Native Claims Settlement Act (ANCSA) corporation policies. We are consulting with Alaska Native tribes and Alaska Native corporations regarding the proposed changes in this rule for Kenai NWR.

Paperwork Reduction Act

This proposed rule does not contain any new collections of information that require approval by the Office of Management and Budget (OMB) under the Paperwork Reduction Act (44 U.S.C. 3501 et seq.). The special use permit mentioned in this proposed rule (FWS Form 3-1383-G) and the information collected on the registration form at entrance points are approved by OMB under OMB Control Numbers 1018-0102 (expires June 30, 2017) and 1018-0153 (expires December 31, 2015). We may not conduct or sponsor and you are not required to respond to a collection of information unless it displays a currently valid OMB control number.

National Environmental Policy Act

The Service has analyzed this proposed rule in accordance with the criteria of the National Environmental Policy Act (NEPA; 42 U.S.C. 4321 et seq.) and Department of the Interior policy in part 516 of the Departmental Manual (516 DM). We have determined that this proposed rule is considered a categorical exclusion under 516 DM 8.5(C)(3), which categorically excludes the “issuance of special regulations for public use of Service-managed land, which maintain essentially the permitted level of use and do not continue a level of use that has resulted in adverse environmental impacts.” This proposed rulemaking supports the Service's management direction identified through approved Refuge management plans, including the 2010 Kenai NWR Revised CCP and the 2007 Kenai NWR Skilak Wildlife Recreation Area Revised Final Management Plan.

For the CCP, we prepared a draft revised CCP and a draft environmental impact statement (DEIS) under NEPA, and made them available for comment for public comment on May 8, 2008 (73 FR 26140). The public comment period on those draft documents began on May 8, 2008, and ended on September 1, 2008. We then prepared our final revised CCP and final EIS, and made them available for public comment for 30 days, beginning August 27, 2009 (74 FR 43718). We announced the availability of the record of decision for the final revised CCP and final EIS on January 11, 2010 (75 FR 1404).

We completed a draft management plan and draft environmental assessment (EA) under NEPA for the Skilak Wildlife Recreation Area Management Plan in October 2006. We distributed approximately 2,500 copies to individuals, businesses, agencies, and organizations that had expressed an interest in receiving Kenai NWR planning-related documents. We also announced the availability of these documents through radio stations, television stations, and newspapers on the Kenai Peninsula and in the city of Anchorage. An electronic version of the plan was made available on the Kenai NWR planning Web site, and a Skilak email address was created to facilitate public comment on the draft plan. Presentations were made to the Alaska Board of Game and the Friends of Alaska National Wildlife Refuges. The draft plan and draft environmental assessment (EA) were made available for public review and comment during a 30-day period ending November 17, 2006. We signed a finding of no significant impact (FONSI) for the final revised management plan first on December 6, 2006, and then later (as corrected) on May 11, 2007.

You can obtain copies of the CCP/EIS and the revised final management plan for the Skilak Wildlife Recreation Area either on the Federal eRulemaking Portal, http://www.regulations.gov, under Docket No. FWS-R7-NWRS-2014-0003, or by contacting Stephanie Brady (see FOR FURTHER INFORMATION CONTACT).

Energy Supply, Distribution, or Use (Executive Order 13211)

Executive Order 13211 requires agencies to prepare Statements of Energy Effects when undertaking actions that significantly affect energy supply, distribution, or use. We believe that the rule would not have any effect on energy supplies, distribution, or use. Therefore, this action is not a significant energy action, and no Statement of Energy Effects is required.

Clarity of This Rule

We are required by Executive Orders 12866 and 12988 and by the Presidential Memorandum of June 1, 1998, to write all rules in plain language. This means that each rule we publish must:

(a) Be logically organized;

(b) Use the active voice to address readers directly;

(c) Use common, everyday words and clear language rather than jargon;

(d) Be divided into short sections and sentences; and

(e) Use lists and tables wherever possible.

If you feel that we have not met these requirements, send us comments by one of the methods listed in the ADDRESSES section, above. To better help us revise the rule, your comments should be as specific as possible. For example, you should tell us the numbers of the sections or paragraphs that you find unclear, which sections or sentences are too long, the sections where you feel lists or tables would be useful, etc.

Primary Author

Andy Loranger, Refuge Manager, Kenai NWR, is the primary author of this rulemaking document.

List of Subjects in 50 CFR Part 36

Alaska, Recreation and recreation areas, Reporting and recordkeeping requirements, Wildlife refuges.

Proposed Regulation Promulgation

Accordingly, we propose to amend 50 CFR part 36 as set forth below:

PART 36—ALASKA NATIONAL WILDLIFE REFUGES

1. The authority citation for part 36 continues to read as follows:

Authority: 16 U.S.C. 460(k) et seq., 668dd-668ee, 3101 et seq.

2. Amend § 36.2 by adding, in alphabetical order, definitions for “Operate” and “Structure” to read as follows:

§ 36.2 What do these terms mean?

* * * * *

Operate means to manipulate the controls of any conveyance, such as, but not limited to, an aircraft, snow machine, motorboat, off-road vehicle, or any other motorized or non-motorized form of vehicular transport as to direct its travel, motion, or purpose.

* * * * *

Structure means something temporarily or permanently constructed, built, or placed; and constructed of natural or manufactured parts including, but not limited to, a building, shed, cabin, porch, bridge, walkway, stair steps, sign, landing, platform, dock, rack, fence, telecommunication device, antennae, fish cleaning table, satellite dish/mount, or well head.

* * * * *

3. Amend § 36.39 by revising paragraph (i) to read as follows:

§ 36.39 Public use.

* * * * *

(i) Kenai National Wildlife Refuge. Maps of designated areas open to specific public use activities on the refuge are available from Refuge Headquarters at the following address: 1 Ski Hill Road, Soldotna, AK.

(1) Aircraft. Except in an emergency, the operation of aircraft on the Kenai National Wildlife Refuge is authorized only in designated areas, as described in this paragraph (i)(1).

(i) We allow the operation of airplanes within the Kenai Wilderness on the following designated lakes, and under the restrictions noted:

(A) Dave Spencer (Canoe Lakes) Unit:

Bedlam Lake

Bird Lake

Cook Lake

Grouse Lake

King Lake

Mull Lake

Nekutak Lake

Norak Lake

Sandpiper Lake

Scenic Lake

Shoepac Lake

Snowshoe Lake

Taiga Lake

Tangerra Lake

Vogel Lake

Wilderness Lake

Pepper, Gene, and Swanson lakes are open to operation of airplanes only to provide access for ice fishing.

(B) Andrew Simons Unit:

Emerald Lake

Green Lake

Harvey Lake

High Lake

Iceberg Lake

Kolomin Lakes

Lower Russian Lake

Martin Lake

Pothole Lake

Twin Lakes

Upper Russian Lake

Windy Lake

Dinglestadt Glacier terminus lake

Wosnesenski Glacier terminus lake

Tustumena Lake and all lakes within the Kenai Wilderness within 1 mile of the shoreline of Tustumena Lake.

All unnamed lakes in sections 1 and 2, T. 1 S., R. 10 W., and sections 4, 5, 8, and 9, T. 1 S., R. 9 W., Seward Meridian.

An unnamed lake in sections 28 and 29, T. 2 N., R. 4 W., Seward Meridian: The Refuge Manager may issue a special use permit (FWS Form 3-1383-G) for the operation of airplanes on this lake to successful applicants for certain State of Alaska, limited-entry, drawing permit hunts. Successful applicants should contact the Refuge Manager to request information.

(C) Mystery Creek Unit:

An unnamed lake in section 11, T. 6 N., R. 5 W., Seward Meridian.

(ii) We allow the operation of airplanes on all lakes outside of the Kenai Wilderness, except that we prohibit aircraft operation on:

(A) The following lakes with recreational developments, including, but not limited to, campgrounds, campsites, and public hiking trails connected to road waysides, north of the Sterling Highway:

Afonasi Lake

Anertz Lake

Breeze Lake

Cashka Lake

Dabbler Lake

Dolly Varden Lake

Forest Lake

Imeri Lake

Lili Lake

Mosquito Lake

Nest Lake

Rainbow Lake

Silver Lake

Upper Jean Lake

Watson Lake

Weed Lake

(B) All lakes within the Skilak Wildlife Recreation Area (south of Sterling Highway and north of Skilak Lake), except for Bottenintnin Lake (open to airplanes year-round) and Hidden Lake (open to airplanes only to provide access for ice fishing).

(C) Headquarters Lake (south of Soldotna), except for administrative purposes. You must request permission from the Refuge Manager.

(iii) Notwithstanding any other provisions of this part, we prohibit the operation of aircraft from May 1 through September 10 on any lake where nesting trumpeter swans or their broods or both are present.

(iv) We prohibit the operation of wheeled airplanes, with the following exceptions:

(A) We allow the operation of wheeled airplanes, at the pilot's risk, on the unmaintained Big Indian Creek Airstrip; on gravel areas within ½ mile of Wosnesenski Glacier terminus lake; and within the SE1/4, section 16 and SW1/4, section 15, T. 4 S., R. 8 W., Seward Meridian.

(B) We allow the operation of wheeled airplanes, at the pilot's risk, within designated areas of the Chickaloon River Flats.

(v) We allow the operation of airplanes on the Kasilof River, on the Chickaloon River (from the outlet to mile 6.5), and on the Kenai River below Skilak Lake (from June 15 through March 14). We prohibit aircraft operation on all other rivers on the refuge.

(vi) We prohibit the operation of unlicensed aircraft anywhere on the refuge except as authorized under terms and conditions of a special use permit (FWS Form 3-1383-G) issued by the Refuge Manager.

(vii) We prohibit air dropping any items within the Kenai Wilderness except as authorized under terms and conditions of a special use permit (FWS Form 3-1383-G) issued by the Refuge Manager.

(2) Motorboats.

(i) We allow motorboat operation on all waters of the refuge, except that:

(A) We prohibit motorboat operation within the Dave Spencer (Canoe Lakes) Unit of the Kenai Wilderness, including those portions of the Moose and Swanson rivers within this Unit, except that we allow motorboat operation on those lakes designated for airplane operations as provided in paragraph (i)(1) and shown on a map available from Refuge Headquarters.

(B) We prohibit motorboat operation on the Kenai River from the eastern refuge boundary near Sportsmans Landing and the confluence of the Russian River downstream to Skilak Lake. You may have a motor attached to your boat and drift or row through this section, provided the motor is not operating.

(C) We prohibit motorboat operation on the Kenai River from the outlet of Skilak Lake (river mile 50) downstream for approximately 3 miles (river mile 47) between March 15 and June 14, inclusive. You may have a motor attached to your boat and drift or row through this section, provided the motor is not operating.

(D) We prohibit the operation of motors with a total propshaft horsepower rating greater than 10 horsepower on the Moose, Swanson, Funny, Chickaloon (upstream of river mile 7.5), Killey, and Fox rivers.

(E) On the Kenai River downstream of Skilak Lake (river mile 50) to the refuge boundary (river mile 45.5), we restrict motorboat operation to only those motorboats with 4-stroke or direct fuel injection motors with a total propshaft horsepower rating of 50 horsepower or less, and that are up to 21 feet in length and up to 106 inches in width. On Skilak Lake, we restrict motorboat operation to only those motorboats with 4-stroke or direct fuel injection motors.

(F) A “no wake” restriction applies to the entire water body of Engineer, Upper and Lower Ohmer, Bottenintnin, Upper and Lower Jean, Kelly, Petersen, Watson, Imeri, Afonasi, Dolly Varden, and Rainbow lakes. We prohibit the operation of motors with a total propshaft horsepower rating of great than 10 horsepower on each of these lakes.

(ii) Notwithstanding any other provisions of these regulations, we prohibit the operation of motorboats from May 1 through September 10 on any lake where nesting trumpeter swans or their broods or both are present.

(3) Off-road vehicles.

(i) We prohibit the operation of all off-road vehicles, as defined at 50 CFR 36.2, except that four-wheel drive, licensed, and registered motor vehicles designed and legal for highway use may operate on designated roads, rights-of-way, and parking areas open to public vehicular access. This prohibition applies to off-road vehicle operation on lake and river ice. At the operator's risk, we allow licensed and registered motor vehicles designed and legal for highway use on Hidden, Engineer, Kelly, Petersen, and Watson lakes only to provide access for ice fishing. You must enter and exit the lakes via existing boat ramps.

(ii) We prohibit the operation of air cushion watercraft, air-thrust boats, jet skis and other personal watercraft, and all other motorized watercraft except motorboats.

(iii) The Refuge Manager may issue a special use permit (FWS Form 3-1383-G) for the operation of specialized off-road vehicles and watercraft for certain administrative activities (to include fish and wildlife-related monitoring, vegetation management, and infrastructure maintenance in permitted rights-of-way).

(4) Snowmobiles. We allow the operation of snowmobiles only in designated areas and only under the following conditions:

(i) We allow the operation of snowmobiles from December 1 through April 30 only when the Refuge Manager determines that there is adequate snow cover to protect underlying vegetation and soils. During this time, the Refuge Manager will authorize, through public notice (a combination of any or all of the following: Internet, newspaper, radio, and/or signs), the use of snowmobiles less than 48 inches in width and less than 1,000 pounds (450 kg) in weight.

(ii) We prohibit snowmobile operation:

(A) In all areas above timberline, except the Caribou Hills.

(B) In an area within sections 5, 6, 7, and 8, T. 4 N., R. 10 W., Seward Meridian, east of the Sterling Highway right-of-way, including the Refuge Headquarters complex, the environmental education/cross-country ski trails, Headquarters and Nordic lakes, and the area north of the east fork of Slikok Creek and northwest of a prominent seismic trail to Funny River Road.

(C) In an area including the Swanson River Canoe Route and portages, beginning at the Paddle Lake parking area, then west and north along the Canoe Lakes wilderness boundary to the Swanson River, continuing northeast along the river to Wild Lake Creek, then east to the west shore of Shoepac Lake, south to the east shore of Antler Lake, and west to the beginning point near Paddle Lake.

(D) In an area including the Swan Lake Canoe Route and several road-connected public recreational lakes, bounded on the west by the Swanson River Road, on the north by the Swan Lake Road, on the east by a line from the east end of Swan Lake Road south to the west bank of the Moose River, and on the south by the refuge boundary.

(E) In the Skilak Wildlife Recreation Area, except on Hidden, Kelly, Petersen, and Engineer lakes only to provide access for ice fishing. You must enter and exit these lakes via the existing boat ramps and operate exclusively on the lakes. Within the Skilak Wildlife Recreation Area, only Upper and Lower Skilak Lake campground boat launches may be used as access points for snowmobile use on Skilak Lake.

(F) On maintained roads within the refuge. Snowmobiles may cross a maintained road after stopping.

(G) For racing, or to herd, harass, haze, pursue, or drive wildlife.

(5) Hunting and trapping. We allow hunting and trapping on the refuge in accordance with State and Federal laws and consistent with the following provisions:

(i) You may not discharge a firearm within ¼ mile of designated public campgrounds, trailheads, waysides, buildings including public use cabins, or the Sterling Highway from the east Refuge boundary to the east junction of the Skilak Loop Road. You may not discharge a firearm within ¼ mile of the west shoreline of the Russian River from the upstream extent of the Russian River Falls downstream to its confluence with the Kenai River, and from the shorelines of the Kenai River from the east refuge boundary downstream to Skilak Lake and from the outlet of Skilak Lake downstream to the refuge boundary, except that firearms may be used in these areas to dispatch animals while lawfully trapping and shotguns may be used for waterfowl and small game hunting along the Kenai River.

(ii) We prohibit hunting over bait, with the exception of hunting for black bear, and then only as authorized under the terms and conditions of a special use permit (FWS Form 3-1383-G) issued by the Refuge Manager.

(iii) We prohibit hunting big game with the aid or use of a dog, with the exception of hunting for black bear, and then only as authorized under the terms and conditions of a special use permit (FWS Form 3-1383-G) issued by the Refuge Manager.

(iv) We prohibit hunting and trapping within sections 5, 6, 7, and 8, T. 4 N., R. 10 W., Seward Meridian, encompassing the Kenai Refuge Headquarters, Environmental Education Center, Visitor Center Complex, and associated public use trails. A map of closure areas is available at Refuge Headquarters.

(v) The additional provisions for hunting and trapping within the Skilak Wildlife Recreation Area are set forth in paragraph (i)(6).

(6) Hunting and trapping within the Skilak Wildlife Recreation Area.

(i) The Skilak Wildlife Recreation Area is bound by a line beginning at the easternmost junction of the Sterling Highway and the Skilak Loop Road (Mile 58), then due south to the south bank of the Kenai River, then southerly along the south bank of the Kenai River to its confluence with Skilak Lake, then westerly along the north shore of Skilak Lake to Lower Skilak Campground, then northerly along the Lower Skilak campground road and the Skilak Loop Road to its westernmost junction with the Sterling Highway (Mile 75.1), then easterly along the Sterling Highway to the point of origin.

(ii) The Skilak Wildlife Recreation Area (Skilak Loop Management Area) is closed to hunting and trapping, except as provided in paragraphs (i)(6)(iii) and (i)(6)(iv).

(iii) You may hunt moose only with a permit issued by the Alaska Department of Fish and Game and in accordance with the provisions set forth in paragraph (i)(5).

(iv) You may hunt small game in accordance with the provisions set forth in paragraph (i)(5) and:

(A) Using falconry and bow and arrow only from October 1 through March 1; or

(B) If you are a youth hunter 16 years old or younger, who is accompanied by a licensed hunter 18 years old or older who has successfully completed a certified hunter education course (if the youth hunter has not), or by someone born on or before January 1, 1986. Youth hunters must use standard .22 rimfire or shotgun, and may hunt only in that portion of the area west of a line from the access road from the Sterling Highway to Kelly Lake, the Seven Lakes Trail, and the access road from Engineer Lake to Skilak Lake Road, and north of the Skilak Lake Road. The youth hunt occurs during each weekend from November 1 to December 31, including the Friday following Thanksgiving. State of Alaska bag limit regulations apply.

(7) Fishing. We allow fishing on the refuge in accordance with State and Federal laws, and consistent with the following provisions:

(i) We prohibit fishing from June 1 through August 15 during the hours of the Russian River Ferry operation along the south bank of the Kenai River from a point 100 feet upstream to a point 100 feet downstream of the ferry dock.

(ii) Designated areas along the Kenai River at the two Moose Range Meadows public fishing facilities along Keystone Drive are closed to public access and use. At these facilities, we allow fishing only from the fishing platforms and by wading in the Kenai River. To access the river, you must enter and exit from the stairways attached to the fishing platforms. We prohibit fishing from, walking or placing belongings on, or otherwise occupying designated areas along the river in these areas.

(8) Public use cabin and camping area management. We allow camping and use of public use cabins on the refuge in accordance with the following conditions:

(i) Unless otherwise further restricted, camping may not exceed 14 days in any 30-day period anywhere on the refuge.

(ii) Campers may not spend more than 7 consecutive days at Hidden Lake Campground or in public use cabins.

(iii) The Refuge Manager may establish a fee and registration permit system for overnight camping at designated campgrounds and public use cabins. At all of the refuge's fee-based campgrounds and public use cabins, you must pay the fee in full prior to occupancy. No person may attempt to reserve a refuge campsite by placing a placard, sign, or any item of personal property on a campsite. Reservations and a cabin permit are required for public use cabins, with the exception of the Emma Lake and Trapper Joe cabins, which are available on a first-come, first-served basis. Information on the refuge's public use cabin program is available from Refuge Headquarters and online at http://www.recreation.gov.

(iv) Campers in developed campgrounds and public use cabins must follow all posted campground and cabin occupancy rules.

(v) You must observe quiet hours from 11:00 p.m. until 7:00 a.m. in all developed campgrounds, parking areas, and public use cabins.

(vi) Within developed campgrounds, we allow camping only in designated sites.

(vii) Campfires.

(A) Within developed campgrounds, we allow open fires only in portable, self-contained, metal fire grills, or in the permanent fire grates provided. We prohibit moving a permanent fire grill or grate to a new location.

(B) Campers and occupants of public use cabins may cut only dead and down vegetation for campfire use.

(C) You must completely extinguish (put out cold) all campfires before permanently leaving a campsite.

(viii) While occupying designated campgrounds, parking areas, or public use cabins, all food (including lawfully retained fish, wildlife, or their parts), beverages, personal hygiene items, odiferous refuse, or any other item that may attract bears or other wildlife, and all equipment used to transport, store, or cook these items (such as coolers, backpacks, camp stoves, and grills) must be:

(A) Locked in a hard-sided vehicle, camper, or camp trailer; in a cabin; or in a commercially produced and certified bear-resistant container; or

(B) Immediately accessible to at least one person who is outside and attending to the items.

(ix) We prohibit deposition of solid human waste within 100 feet of annual mean high water level of any wetland, lake, pond, spring, river, stream, campsite, or trail. In the Swan Lake and Swanson River Canoe Systems, you must bury solid human waste to a depth of 6 to 8 inches.

(x) We prohibit tent camping within 600 feet of each public use cabin, except by members and guests of the party registered to that cabin.

(xi) Within 100 yards of the Kenai River banks along the Upper Kenai River from river mile 73 to its confluence with Skilak Lake (river mile 65), and along the Middle Kenai River downstream of Skilak Lake (river mile 50 to river mile 45.5), we allow camping only at designated primitive campsites. Campers can spend no more than 3 consecutive nights at the designated primitive campsites.

(xii) We prohibit camping in the following areas of the refuge:

(A) Within ¼ mile of the Sterling Highway, Ski Hill, or Skilak Loop roads, except in designated campgrounds.

(B) On the two islands in the lower Kenai River between mile 25.1 and mile 28.1 adjacent to the Moose Range Meadows Subdivision.

(C) At the two refuge public fishing facilities and the boat launching facility along Keystone Drive within the Moose Range Meadows Subdivision, including within parking areas, and on trails, fishing platforms, and associated refuge lands.

(9) Other uses and activities.

(i) Must I register to canoe on the refuge? Canoeists on the Swanson River and Swan Lake Canoe Routes must register at entrance points using the registration forms provided. The maximum group size on the Canoe Routes is 15 people.

(ii) May I use motorized equipment within designated Wilderness areas on the refuge? Within the Kenai Wilderness, except as provided in this paragraph (i), we prohibit the use of motorized equipment, including, but not limited to, chainsaws; generators; power tools; powered ice augers; and electric, gas, or diesel power units. We allow the use of motorized wheelchairs, when used by those whose disabilities require wheelchairs for locomotion. We allow the use of snowmobiles, airplanes, and motorboats in designated areas in accordance with the regulations in this paragraph (i).

(iii) May I use non-motorized wheeled vehicles on the refuge? Yes, you may use bicycles and other non-motorized wheeled vehicles, but only on refuge roads and rights-of-way designated for public vehicular access. In addition, you may use non-motorized, hand-operated, wheeled game carts, specifically manufactured for such purpose, to transport meat of legally harvested big game on designated industrial roads closed to public vehicular access. Information on these designated roads is available from Refuge Headquarters. Further, you may use a wheelchair if you have a disability that requires its use for locomotion.

(iv) May I ride or use horses, mules, or other domestic animals as packstock on the refuge? Yes, as authorized under State law, except on the Fuller Lake Trail and on all trails within the Skilak Wildlife Recreation Area and the Refuge Headquarters area. All animals used as packstock must remain in the immediate control of the owner, or his/her designee. All hay and feed used on the refuge for domestic stock and sled dogs must be certified under the State of Alaska's Weed Free Forage certification program.

(v) Are pets allowed on the refuge? Yes, pets are allowed, but you must be in control of your pet(s) at all times. Pets in developed campgrounds and parking lots must be on a leash that is no longer than 6 feet in length. Pets are not allowed on hiking and ski trails in the Refuge Headquarters area.

(vi) May I cut firewood on the refuge? The Refuge Manager may open designated areas of the refuge for firewood cutting. You may cut and/or remove firewood only for personal, noncommercial use, and only as authorized under the terms and conditions of a special use permit (FWS Form 3-1383-G) issued by the Refuge Manager.

(vii) May I cut Christmas trees on the refuge? You may cut one spruce tree per household per year no larger than 20 feet in height from Thanksgiving through Christmas Day. Trees may be taken anywhere on the refuge, except that we prohibit taking trees from within the 2-square-mile Refuge Headquarters area on Ski Hill Road. Trees must be harvested with hand tools, and must be at least 150 feet from roads, trails, campgrounds, picnic areas, and waterways (lakes, rivers, streams, or ponds). Stumps from harvested trees must be trimmed to less than 6 inches in height.

(viii) May I pick berries and other edible plants on the refuge? You may pick and possess unlimited quantities of berries, mushrooms, and other edible plants for personal, noncommercial use.

(ix) May I collect shed antlers on the refuge? You may collect and keep up to eight (8) naturally shed moose and/or caribou antlers annually for personal, noncommercial use. You may collect no more than two (2) shed antlers per day.

(x) May I leave personal property on the refuge? You may not leave personal property unattended longer than 72 hours unless in a designated area or as authorized under the terms and conditions of a special use permit (FWS Form 3-1383-G) issued by the Refuge Manager. However, refuge visitors involved in approved, extended overnight activities, including hunting, fishing, and camping, may leave personal property unattended during their continuous stay, but in no case longer than 14 days.

(xi) If I find research marking devices, what do I do? You must return any radio transmitter collars, neck and leg bands, ear tags, or other fish and wildlife marking devices found or recovered from fish and wildlife on the refuge within 5 days of leaving the refuge to the Refuge Manager or the Alaska Department of Fish and Game.

(xii) Are there special regulations for alcoholic beverages? In addition to the provisions of 50 CFR 27.81, anyone under the age of 21 years may not knowingly consume, possess, or control alcoholic beverages on the refuge in violation of State of Alaska law or regulations.

(xiii) Are there special regulations for public gatherings on the refuge? In addition to the provisions of 50 CFR 26.36, a special use permit (FWS Form 3-1383-G) is required for any outdoor public gathering of more than 20 persons.

(10) Areas of the refuge closed to public use.

(i) From March 15 through September 30, you may not approach within 100 yards of, or walk on or otherwise occupy, the rock outcrop islands in Skilak Lake traditionally used by nesting cormorants and gulls. A map depicting the closure is available from the Refuge Headquarters.

(ii) Headquarters Lake, adjacent to the Kenai Refuge Headquarters area, is closed to boating.

(11) Area-specific regulations for the Russian River Special Management Area. The Russian River Special Management Area includes all refuge lands and waters within ¼ mile of the eastern refuge boundary along the Russian River from the upstream end of the fish ladder at Russian River Falls downstream to the confluence with the Kenai River, and within ¼ mile of the Kenai River from the eastern refuge boundary downstream to the upstream side of the powerline crossing at river mile 73, and areas managed by the refuge under memorandum of understanding or lease agreement at the Sportsman Landing facility. In the Russian River Special Management Area:

(i) While recreating on or along the Russian and Kenai rivers, you must closely attend or acceptably store all attractants, and all equipment used to transport attractants (such as backpacks and coolers) at all times. Attractants are any substance, natural or manmade, including but not limited to, items of food, beverage, personal hygiene, or odiferous refuse that may draw, entice, or otherwise cause a bear or other wildlife to approach. Closely attend means to retain on the person or within the person's immediate control and in no case more than 3 feet from the person. Acceptably store means to lock within a commercially produced and certified bear-resistant container.

(ii) While recreating on or along the Russian and Kenai rivers, you must closely attend or acceptably store all lawfully retained fish at all times. Closely attend means to keep within view of the person and be near enough for the person to quickly retrieve, and in no case more than 12 feet from the person. Acceptably store means to lock within a commercially produced and certified bear-resistant container.

(iii) We prohibit overnight camping except in designated camping facilities at the Russian River Ferry and Sportsman's Landing parking areas. Campers may not spend more than 2 consecutive days at these designated camping facilities.

(iv) You may start or maintain a fire only in designated camping facilities at the Russian River Ferry and Sportsman's Landing parking areas, and then only in portable, self-contained, metal fire grills, or in the permanent fire grates provided. We prohibit moving a permanent fire grill or grate to a new location. You must completely extinguish (put out cold) all campfires before permanently leaving your campsite.

(12) Area-specific regulations for the Moose Range Meadows Subdivision Non-Development and Public Use Easements.

(i) Where the refuge administers two variable width, non-development easements held by the United States and overlaying private lands within the Moose Range Meadows Subdivision on either shore of the Kenai River between river miles 25.1 and 28.1, you may not erect any building or structure of any kind; remove or disturb gravel, topsoil, peat, or organic material; remove or disturb any tree, shrub, or plant material of any kind; start a fire; or use a motorized vehicle of any kind (except a wheelchair occupied by a person with a disability), unless such use is authorized under the terms and conditions of a special use permit (FWS Form 3-1383-G) issued by the Refuge Manager.

(ii) Where the refuge administers two 25-foot-wide public use easements held by the United States and overlaying private lands within the Moose Range Meadows Subdivision on either shore of the Kenai River between river miles 25.1 and 28.1, we allow public entry subject to applicable Federal regulations and the following provisions:

(A) You may walk upon or along, fish from, or launch or beach a boat upon an area 25 feet upland of ordinary high water, provided that no vehicles (except wheelchairs) are used. We prohibit non-emergency camping, structure construction, and brush or tree cutting within the easements.

(B) From July 1 to August 15, you may not use or access any portion of the 25-foot-wide public easements or the three designated public easement trails located parallel to the Homer Electric Association Right-of-Way from Funny River Road and Keystone Drive to the downstream limits of the public use easements. Maps depicting the seasonal closure are available from Refuge Headquarters.

(13) Area-specific regulations for Alaska Native Claims Settlement Act Section 17(b) Easements. Where the refuge administers Alaska Native Claims Settlement Act Section 17(b) easements to provide access to refuge lands, no person may block, alter, or destroy any section of the road, trail, or undeveloped easement, unless such use is authorized under the terms and conditions of a special use permit (FWS Form 3-1383-G) issued by the Refuge Manager. No person may interfere with lawful use of the easement or create a public safety hazard on the easement. Section 17(b) easements are depicted on a map available from Refuge Headquarters.

* * * * *

Dated: May 5, 2015.
Michael Bean,
Principal Deputy Assistant Secretary for Fish and Wildlife and Parks.

[FR Doc. 2015-12099 Filed 5-20-15; 8:45 am]

BILLING CODE 4310-55-P